FEDERAL COMMUNICATIONS COMMISSION

Notice of Public Information Collection(s) Being Submitted for Review and Approval to the Office of Management and Budget (OMB), Comments Requested

October 26, 2010.

SUMMARY: The Federal Communications Commission, as part of its continuing effort to reduce paperwork burden invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

The FCC may not conduct or sponsor a collection of information unless it displays a currently valid OMB control number. No person shall be subject to any penalty for failing to comply with a collection of information subject to the Paperwork Reduction Act (PRA) that does not display a valid OMB control number.

DATES: Submit written Paperwork Reduction Act (PRA) comments on or before December 2, 2010. If you anticipate that you will be submitting PRA comments, but find it difficult to do so within the period of time allowed by this notice, you should advise the FCC contact listed below as soon as possible.

ADDRESSES: Submit all PRA comments to Nicholas A. Fraser, Office of Management and Budget, via fax at 202-395-5167 or the Internet at Nicholas_A._Fraser@omb.eop.gov; and to Judith-B. Herman@fcc.gov, Federal Communications Commission. Send your PRA comments by e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0957.

Title: Section 20.18(i) and (g), Requests for Waiver of Deadline on Location-Capable Handset Deployment, Fourth Memorandum Opinion and Order in CC Docket No. 94-102.

Form No.: N/A.

Type of Review: Extension of a currently approved collection.

Respondents: Business or other for-profit, not-for-profit institutions and state, local or tribal government.

Number of Respondents: 2,500 respondents; 2,500 responses.

Estimated Time Per Response: 3 hours.

Frequency of Response: On occasion reporting requirement.

Obligation To Respond: Required to obtain or retain benefits. Statutory authority for this information collection is contained in 47 U.S.C. sections 154, 160, 251-254, 303 and 332.

Total Annual Burden: 7,500 hours.

Total Annual Cost: N/A.

Privacy Act Impact Assessment: N/A.

Nature and Extent of Confidentiality: There are no questions of a confidential nature are asked.

Needs and Uses: The Commission will submit this expiring information collection (IC) to the OMB as an extension during this comment period to obtain the full three-year clearance from them. The Commission is reporting no change in burden estimates and no change in the reporting requirement.

The Commission responded to petitions for reconsideration of certain aspects of the Third Report and Order, FCC 99-245, in the proceeding concerning the establishment of a nationwide wireless enhanced 911 (E911) emergency communications service.

The Fourth Report and Order, FCC 00-236, revised and made adjustments to the deployment schedule that must be followed by wireless carriers that chose to implement E911 service using a handset-based technology. The Commission also deferred the date for initial distribution of Automatic Location Identification (ALI)-capable handsets by seven months; adjusting the timetable for carriers to meet certain interim benchmarks for activating new ALI-capable handsets; deferred the date by which a carrier must achieve full penetration of ALI-capable handsets by one year; modified the manner in which the Commission defined full penetration; eliminated the separate handset phase-in schedule triggered by a request from a Public Safety Answering Point (PSAP), and addressed several other issues regarding implementation of enhanced 9111 Phase II. The Commission also discussed its general approach toward possible request for waiver of the E911 Phase II requirements. As a general rule, the Commission's rules may be waived for good cause shown and that waivers are only appropriate if special circumstances warrant a deviation from the general rule and will serve the public interest. Wireless carriers are instructed to submit waiver requests that are specific, focused and limited in scope, and with a clear path to full compliance. A waiver request must specify the solutions considered and explain why none could be employed in a way that complies to the Phase II rules. If deployment must be delayed, the carrier should specify the reason for the delay and provide a revised schedule.

The Commission found that waivers of the E911 Phase II requirements should not generally be warranted, especially in light of the vital public safety benefits of Phase II. However, in those particular cases where waivers may be justified, broad generalized waivers should not be necessary and will not be granted. Further, carriers should undertake concrete steps necessary to come as close as possible to full compliance and should document their efforts aimed at compliance in support of any waiver requests. Carriers seeking a waiver will be expected to specify the solutions they considered and explain why none could be employed in a way that complies with the Phase II rules. If deployment is scheduled but for some reason must be delayed, the carrier should specify the reason for the delay and provide a revised schedule.

Federal Communications Commission.
Marlene H. Dortch,
Secretary.

[FR Doc. 2010-27582 Filed 11-1-10; 8:45 am]

BILLING CODE 6712-01-P